DEPARTMENT OF COMMERCE

International Trade Administration

[A-533-824]

Polyethylene Terephthalate Film, Sheet, and Strip From India: Notice of Court Decision Not in Harmony With the Final Results of the Antidumping Duty Administrative Review, 2015-2016; and Notice of Amended Final Results of the Antidumping Duty Administrative Review, 2015-2016

AGENCY: Enforcement and Compliance, International Trade Administration, Department of Commerce.

SUMMARY: On July 23, 2019, the United States Court of International Trade (CIT) issued its final judgment sustaining the final results of redetermination pertaining to the 2015-2016 antidumping duty (AD) administrative review of polyethylene terephthalate film, sheet, and strip (PET Film) from India. The Department of Commerce (Commerce) is notifying the public that the final judgment in this case is not in harmony with the final results of the AD administrative review, and that Commerce is amending the final results with respect to the weighted-average dumping margin assigned to Jindal Poly Films Limited of India.

DATES: Applicable July 23, 2019.

FOR FURTHER INFORMATION CONTACT: Jacqueline Arrowsmith, AD/CVD Operations, Office IV, Enforcement and Compliance—International Trade Administration, U.S. Department of Commerce, 1401 Constitution Avenue NW, Washington, DC 20230; telephone (202) 482-5255.

SUPPLEMENTARY INFORMATION:

Background

On February 13, 2018, Commerce published the Final Results.¹ Subsequently, Jindal Poly Films Limited of India (Jindal), a mandatory respondent in the underlying proceeding, filed suit at the CIT to challenge certain aspects of the Final Results. On March 11, 2019, the CIT remanded the Final Results to Commerce, to further explain its decision to deny Jindal's claimed Financing Charges Discount and the Exclusive Dealer Discount post-sale adjustments, finding that Commerce had failed to articulate its reasoning for denying the adjustments.² On July 10, 2019, Commerce issued its Remand Results, in which it granted post-sale price adjustments for Jindal's Financing Charges Discount and Exclusive Dealer Discount.³ On July 23, 2019, the CIT sustained Commerce's Remand Results, and entered final judgment.⁴

¹ See Polyethylene Terephthalate Film, Sheet, and Strip from India: Final Results of Antidumping Duty Administrative Review; 2015-2016, 83 FR 6162 (February 13, 2018) (Final Results), and accompanying Issues and Decision Memorandum (IDM).

² See Jindal Poly Films Limited of India v. United States, Court No. 18-00038, Slip Op. 19-31 (CIT 2019).

³ See Final Results of Redetermination Pursuant to Court Remand, Jindal Poly Films Limited of India v. United States, Court No. 18-00038 (July 10, 2019) (Remand Results).

⁴ See Jindal Poly Films Limited of India v. United States, Court No. 18-00038, Slip Op. 19-91 (CIT 2019).

Timken Notice

In its decision in Timken,⁵ as clarified by Diamond Sawblades,⁶ the Court of Appeals for the Federal Circuit held that, pursuant to section 516A(e) of the Tariff Act of 1930, as amended (the Act), Commerce must publish a notice of a court decision that is not “in harmony” with a Commerce determination and must suspend liquidation of entries pending a “conclusive” court decision. The CIT's July 23, 2019, judgment sustaining Commerce's Remand Results constitutes a final decision of that court that is not in harmony with Commerce's Final Results. This notice is published in fulfillment of the publication requirements of Timken. Commerce will continue the suspension of liquidation of the subject merchandise pending the expiration of the period of appeal, or if appealed, pending a final and conclusive court decision.

⁵ See Timken Co. v. United States, 893 F.2d 337 (Fed. Cir. 1990) (Timken).

⁶ See Diamond Sawblades Mfrs. Coalition v. United States, 626 F.3d 1374 (Fed. Cir. 2010) (Diamond Sawblades).

Amended Final Results

Because there is now a final court decision, Commerce is amending its Final Results with respect to Jindal's weighted-average dumping margin. The revised weighted-average dumping margin for Jindal for the July 1, 2015, through June 30, 2016, period of review is as follows:

Producer or exporter | Weighted- average dumping margin (percent)
Jindal Poly Films Limited of India ⁷ | 0.87

In the event the CIT's ruling is not appealed or, if appealed, is upheld by a final and conclusive court decision, Commerce will instruct U.S. Customs and Border Protection to assess antidumping duties on unliquidated entries of subject merchandise based on the revised rates calculated by Commerce in the Remand Results and listed above.

⁷ The Initiation Notice also lists the company as Jindal Poly Films Ltd. (India). See Initiation of Antidumping and Countervailing Duty Administrative Reviews, 81 FR 62720, (September 12, 2016). As noted in the Preliminary Decision Memoranda, dated concurrently with the Federal Register notice, the Department has determined that Jindal Poly Films Limited of India is the same company as Jindal Poly Films Ltd. (India). See Polyethylene Terephthalate Film, Sheet, and Strip from India: Preliminary Results and Partial Rescission of Antidumping Duty Administrative Review; 2015-2016 82 FR 36735 (August 7, 2017).

Cash Deposit Requirements

Because the cash deposit rate for the company listed above, has been superseded by a cash deposit rate calculated in an intervening administrative review of the antidumping duty order on PET Film from India,⁸ we will not alter the cash deposit rate currently in effect for these respondents based on these amended final results. Effective March 13, 2019, the cash deposit rate applicable to entries of subject merchandise exported by Jindal is 5.95 percent.

⁸ See Polyethylene Terephthalate Film, Sheet, and Strip from India: Final Results of Antidumping Duty Administrative Review; 2016-2017, 84 FR 9092 (March 13, 2019), and accompanying IDM.

Notification to Interested Parties

This notice is issued and published in accordance with sections 516A(e), 751(a)(1) and 777(i)(1) of the Act.

Dated: July 30, 2019.
Christian Marsh,
Deputy Assistant Secretary for Enforcement and Compliance.

[FR Doc. 2019-16656 Filed 8-1-19; 8:45 am]

BILLING CODE 3510-DS-P